DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 6, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: University of Texas, Department of Anthropology, Austin, TX, PRT-152122.

The applicant requests a permit to import two male and four female captive-born gray mouse lemurs (Microcebus murinus) from the Museum National d'Histoire Naturelle, Brunoy, France, for the purpose of scientific research.

Applicant: Los Angeles Zoo, Los Angeles, CA, PRT-152102.

The applicant requests a permit to import one female captive-born mandrill (Mandrillus sphinx) from the Granby Zoo, Quebec, Canada for the purpose of enhancement of the species through captive breeding.

Applicant: American Museum of Natural History, Sackler Institute for Comparative Genomics, New York, NY, PRT-156381.

The applicant requests a permit to import biological samples from dwarf crocodile (Osteolaemus tetraspis osborni), Nile crocodile (Crocodylus niloticus), and African slender-snout crocodile (Crocodylus cataphractus) from the Republics of Gabon and Congo for the purpose of enhancement of the species through scientific research. This notification covers activities conducted by the applicant for a five-year period.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (ADDRESSES above). Anyone requesting a hearing should give specific reasons why a hearing would be appropriate. The holding of such a hearing is at the discretion of the Director.

Applicant: U.S. Fish and Wildlife Service, Marine Mammals Management, Anchorage, AK, PRT-046081.

The applicant requests renewal and amendment of a permit to take polar bears (Ursus maritimus) in Alaska for the purpose of scientific research. The take activities include capture and release; tag, mark and radio collar; and collection of biometrics and biological samples. This notification covers activities to be conducted by the applicant over a five-year period.

Concurrent with the publication of this notice in the Federal Register, the Division of Management Authority is forwarding copies of the above applications to the Marine Mammal Commission and the Committee of Scientific Advisors for their review.

Applicant: Jim B. Dismukes, Fair Oaks, CA, PRT-155535.

The applicant requests a permit to import a polar bear (Ursus maritimus) sport hunted from the Northern Beaufort Sea polar bear population in Canada for personal, noncommercial use.

Applicant: Raymond T. Cuppy, Souderton, PA, PRT-156394.

The applicant requests a permit to import a polar bear (Ursus maritimus) sport hunted from the Lancaster Sound polar bear population in Canada for personal, noncommercial use.

Dated: June 8, 2007.
Lisa J. Lierheimer,
Senior Permit Biologist, Branch of Permits, Division of Management Authority.

[FR Doc. E7-13063 Filed 7-5-07; 8:45 am]

BILLING CODE 4310-55-P